DEPARTMENT OF VETERANS AFFAIRS

[OMB Control No. 2900-0438]

Proposed Information Collection Activity: Proposed Collection; Comment Request

AGENCY: Office of Information and Technology, Department of Veterans Affairs.

ACTION: Notice.

SUMMARY: The Office of Information and Technology (OI&T), Department of Veterans Affairs, is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on requirements relating to the release of names and addresses of veterans and their dependents to non-profit organizations.

DATES: Written comments and recommendations on the proposed collection of information should be received on or before November 13, 2000.

ADDRESSES: Submit written comments on the collection of information to Denise McLamb, Information Management Service (045A4), Department of Veterans Affairs, 810 Vermont Avenue, NW, Washington, DC 20420. Please refer to “OMB Control No. 2900-0438” in any correspondence.

FOR FURTHER INFORMATION CONTACT: Denise McLamb at (202) 273-8030 or FAX (202) 273-5981.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, OI&T invites comments on: (1) Whether the proposed collection of information is necessary for the proper performance of functions, including whether the information will have practical utility; (2) the accuracy of the burden estimate of the proposed collection of information; (3) ways to enhance the quality, utility, and clarity of the information to be collected; and (4) ways to minimize the burden of the collection of information on respondents, including through the use of automated collection techniques or the use of other forms of information technology.

Title: 38 CFR 1.519 Lists of Names and Addresses.

OMB Control Number: 2900-0438.

Type of Review: Extension of a previously approved collection.

Abstract: Title 38, U.S.C., 5701(f)(1) authorizes VA to disclose mailing lists of veterans and their dependents to nonprofit organizations, but only for certain specific and narrow purposes. Criminal penalties are provided for improper use of the list by the organization in violation of subsection (f) limitations. The information collection in this regulation ensures that any disclosure of a list under this subsection is authorized by law. VA must ascertain that the applicant is a nonprofit organization and intends to use the list for a proper purpose; if not, Title 38, U.S.C., 5701(a) prohibits disclosure. The additional information collection (specific geographic locations, point of contact, type of output and signature of organization head) is necessary to ensure timely and accurate processing of each application. Failure to obtain this information will prevent the Department from fulfilling its statutory obligations.

Affected Public: Not-for-profit institutions and State, Local or Tribal Government.

Estimated Annual Burden: 50 hours.

Estimated Average Burden Per Respondent: 60 minutes.

Frequency of Response: On occasion.

Estimated Number of Respondents: 50.

Dated: August 30, 2000.
By direction of the Acting Secretary.
Donald L. Neilson,
Director, Information Management Service.

[FR Doc. 00-23573 Filed 9-13-00; 8:45 am]

BILLING CODE 8320-01-P